DEPARTMENT OF TRANSPORTATION

Federal Aviation Administration

14 CFR Part 39

[Docket No. FAA-2006-26721; Directorate Identifier 2006-SW-28-AD; Amendment 39-14961; AD 2006-26-51]

RIN 2120-AA64

Airworthiness Directives; Eurocopter Deutschland GmbH Model MBB-BK 117 C-2 Helicopters

AGENCY: Federal Aviation Administration, DOT.

ACTION: Final rule; request for comments.

SUMMARY: This document publishes in the Federal Register an amendment adopting Airworthiness Directive (AD) 2006-26-51, which was sent previously to all known U.S. owners and operators of Eurocopter Deutschland GmbH (ECD) Model MBB-BK 117 C-2 helicopters by individual letters. This AD requires, before further flight, marking the position of the tail rotor control lever dynamic weights (weights), removing the split pins and the weights, and visually inspecting and replacing, if necessary, the tail rotor control lever before further flight. This AD also requires, within 10 hours time-in-service (TIS), and thereafter at intervals not to exceed 25 hours TIS, repeating the visual inspection of the tail rotor control lever and replacing any unairworthy tail rotor control lever with an airworthy tail rotor control lever before further flight. Also required is reassembling the tail rotor control lever by following the appropriate maintenance instruction. This amendment is prompted by an in-flight incident in which the threaded portion of the tail rotor control lever containing a dynamic weight broke off leading to severe vibrations. The actions specified by this AD are intended to prevent separation of the weights in flight, severe vibration, and subsequent loss of control of the helicopter.

DATES: Effective April 9, 2007, to all persons except those persons to whom it was made immediately effective by Emergency AD 2006-26-51, issued on December 22, 2006, which contained the requirements of this amendment.

The incorporation by reference of certain publications listed in the regulations is approved by the Director of the Federal Register as of April 9, 2007.

Comments for inclusion in the Rules Docket must be received on or before May 22, 2007.

ADDRESSES: Use one of the following addresses to submit comments on this AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: (202) 493-2251; or

• Hand Delivery: Room PL-401 on the plaza level of the Nassif Building, 400 Seventh Street, SW., Washington, DC, between 9 a.m. and 5 p.m., Monday through Friday, except Federal holidays.

You may get the service information identified in this AD from American Eurocopter Corporation, 2701 Forum Drive, Grand Prairie, Texas 75053-4005, telephone (972) 641-3460, fax (972) 641-3527.

Examining the Docket

You may examine the docket that contains the AD, any comments, and other information on the Internet at http://dms.dot.gov, or in person at the Docket Management System (DMS) Docket Offices between 9 a.m. and 5 p.m., Monday through Friday, except Federal holidays. The Docket Office (telephone (800) 647-5227) is located on the plaza level of the Department of Transportation Nassif Building at the street address stated in the ADDRESSES section. Comments will be available in the AD docket shortly after the DMS receives them.

FOR FURTHER INFORMATION CONTACT: Charles Harrison, Aviation Safety Engineer, FAA, Rotorcraft Directorate, Safety Management Group, Fort Worth, Texas 76193-0110, telephone (817) 222-5128, fax (817) 222-5961.

SUPPLEMENTARY INFORMATION: On December 22, 2006, the FAA issued Emergency AD 2006-26-51 for the specified model helicopters, which requires, before further flight, marking the position of the tail rotor control lever dynamic weights (weights), removing the split pins and the weights, and by referring to Figure 1 of the manufacturer's service bulletin, visually inspecting the area around the split pin bore for score marks, notches, scratches, or other damage that exceeds the maintenance manual limitations or a crack and replacing any unairworthy tail rotor control lever before further flight. The AD also requires, within 10 hours TIS, and thereafter at intervals not to exceed 25 hours TIS, repeating the visual inspection of the tail rotor control lever and replacing any unairworthy tail rotor control lever with an airworthy tail rotor control lever before further flight. Also required is reassembling the tail rotor control lever by following the appropriate maintenance instruction. That action was prompted by an in-flight incident in which a dynamic weight broke off the tail rotor control lever subsequently leading to considerable vibrations. A visual inspection revealed that the threaded portion of the control lever containing the dynamic weight had broken off. This condition, if not corrected, could result in separation of the weights in flight, severe vibration, and subsequent loss of control of the helicopter.

The Luftfahrt-Bundesamt (LBA) has issued an Emergency AD in accordance with Article 10.1 of European Union Regulation 1592/2002. The LBA, the airworthiness authority for the Federal Republic of Germany, notified the FAA that an unsafe condition may exist on these helicopter models. The LBA advises of an in-flight incident in which a dynamic weight broke off the tail rotor control lever resulting in considerable vibrations. The LBA advises that this can lead to reduced controllability of the helicopter.

The FAA has reviewed Eurocopter Alert Service Bulletin No. MBB BK 117 C-2-64A-002, dated December 21, 2006 (ASB), which describes procedures for initial and recurrent visual inspections of the tail rotor control lever. The ASB specifies inspecting the area around the split pin bore for damage, and if score marks, notching, scratching, a crack, or something similar are detected to contact ECD customer support. In addition, the manufacturer states in that ASB that it is effective for Model MBB BK117 C-2 helicopters, Serial Number (S/N) 9075 and higher, and those helicopters from S/N 9004 up to and including S/N 9074 on which Alert Service Bulletin MBB BK 117 C-2-67-006, dated July 25, 2006, (SB MBB BK 117-C-2-67-006) has been accomplished. The referenced SB MBB BK 117-C-2-67-006, states that it offers improvements with regard to a reduction of the operational pedal control forces. These improvements involved two modifications (1) Installing modified pedal control levers, and (2) installing an optimized tail rotor control lever assembly “consisting of modified weights and modified control lever pre-assys.” Installing the optimized tail rotor control lever assembly involved replacing the 2 control levers, Part Number (P/N) B642M1009102, with 2 control levers, P/N B642M1009103, and replacing the 4 weights, P/N B642M1011201 with 4 weights, P/N B642M1011202. The LBA classified this ASB as mandatory and issued LBA AD D-2006-428, effective December 22, 2006, to ensure the continued airworthiness of these helicopters in Germany.

This helicopter model is manufactured in the Federal Republic of Germany and is type certificated for operation in the United States under the provisions of 14 CFR 21.29 and the applicable bilateral agreement. The FAA has examined the findings of the LBA, reviewed all available information, and determined that AD action is necessary for products of this type design that are certificated for operation in the United States.

Since the unsafe condition described is likely to exist or develop on other ECD Model MBB-BK 117 C-2 helicopters of the same type design, the FAA issued Emergency AD 2006-26-51 to prevent separation of the weights in flight, severe vibration, and subsequent loss of control of the helicopter. The AD requires the following:

• Before further flight, marking the position of the weights, removing the split pins, removing the weights, and visually inspecting the tail rotor control lever in the area around the split pin bore for score marks, notching, scratching, or a crack.

• If you find score marks, notching, or scratches, that exceed the maintenance manual limits, or find a crack, replacing the tail rotor control lever with an airworthy tail rotor control lever before further flight.

• If you do not find score marks, notching, scratches, or a crack, within 10 hours TIS, and thereafter at intervals not to exceed 25 hours TIS, repeating the visual inspection of the tail rotor control lever.

• After any repetitive inspection, if you find score marks, notching, or scratches, that exceed the maintenance manual limits or find a crack, replacing the tail rotor control lever with an airworthy tail rotor control lever before further flight.

• Reassembling the tail rotor control lever by following the appropriate maintenance instruction.

The actions must be accomplished in accordance with the specified portions of the ASB described previously. The short compliance time involved is required because the previously described critical unsafe condition can adversely affect the structural integrity and controllability of the helicopter. Therefore, the actions previously described are required at the specified short time intervals, and this AD must be issued immediately.

Since it was found that immediate corrective action was required, notice and opportunity for prior public comment thereon were impracticable and contrary to the public interest, and good cause existed to make the AD effective immediately by individual letters issued on December 22, 2006 to all known U.S. owners and operators of ECD Model MBB-BK 117 C-2 helicopters. These conditions still exist, and the AD is hereby published in the Federal Register as an amendment to 14 CFR 39.13 to make it effective to all persons.

The FAA estimates that this AD will affect 26 helicopters on the U.S. registry. The before-flight inspection, the 10-hour TIS inspection, and each of the repetitive 25-hour TIS inspections (assuming 24 repetitive inspections per year per helicopter) including marking the position of the weights, removing the split pins, removing the weights, and visually inspecting the tail rotor control lever and reassemblying an airworthy tail rotor control lever will take about 1 work hour per inspection per helicopter. Replacing 1 tail rotor control lever and 1 weight will take about 3 work hours. The average labor rate is $80 per work hour. Required parts, if necessary, will cost about $4,166 for each tail rotor control lever (2 per helicopter); $496 for each weight (4 per helicopter); and $.21 for each cotter pin (4 per helicopter). Based on these figures, we estimate the total cost impact of the AD on U.S. operators for the first year will be $181,532 ($6,982 per helicopter, assuming 1 tail rotor control lever and 1 weight are replaced on each helicopter in the fleet during the first year).

Comments Invited

This AD is a final rule that involves requirements that affect flight safety and was not preceded by notice and an opportunity for public comment; however, we invite you to submit any written data, views, or arguments regarding this AD. Send your comments to an address listed under ADDRESSES. Include “Docket No. FAA-2006-26721; Directorate Identifier 2006-SW-28-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket Web site, you can find and read the comments to any of our dockets, including the name of the individual who sent the comment. You may review the DOT's complete Privacy Act Statement in the Federal Register published on April 11, 2000 (65 FR 19477-78), or you may visit http://dms.dot.gov.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the DMS to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2006-26-51 Eurocopter Deutschland GmbH: Amendment 39-14961. Docket No. FAA-2006-26721; Directorate Identifier 2006-SW-28-AD.

Applicability

Model MBB-BK 117 C-2 helicopters, serial number (S/N) 9075 and higher, and those helicopters from S/N 9004 up to and including 9074, on which Service Bulletin MBB BK117 C-2-67-006 has been accomplished, with a tail rotor control lever B642M1009103, installed, certificated in any category.

Note 1: The referenced Eurocopter Alert Service bulletin MBB BK 117 C-2-67-006, dated July 25, 2006, pertains to the subject of this AD. That ASB states that it offers improvements with regard to a reduction of the operational pedal control forces and involves two modifications. One of the modifications involves installing an optimized tail rotor control lever assembly “consisting of modified weights and modified control lever pre-assys.” Installing the optimized tail rotor control lever assembly, in part, involved replacing the 2 control levers, part number (P/N) B642M1009102, with 2 control levers, P/N B642M1009103, and replacing the 4 weights, P/N B642M1011201, with 4 weights, P/N B642M1011202.

Compliance

Required as indicated, unless accomplished previously.

To prevent separation of the tail rotor control lever dynamic weights (weights) in flight, severe vibration, and subsequent loss of control of the helicopter, accomplish the following:

(a) Before further flight, mark the position of the weights, remove the split pins, remove the weights, and visually inspect the tail rotor control lever in the area around the split pin bore for score marks, notching, scratching, or a crack. Conduct the inspection by following the Accomplishment Instructions, paragraph 3A(1) and Figure 1 of Eurocopter Alert Service Bulletin No. MBB BK117 C-2-64A-002, dated December 21, 2006 (ASB).

(1) If you find score marks, notching, or scratches, that exceed the maintenance manual limits, or find a crack, replace the tail rotor control lever with an airworthy tail rotor control lever before further flight.

(2) If you do not find score marks, notching, scratches, or a crack, within 10 hours time-in-service (TIS), and thereafter at intervals not to exceed 25 hours TIS, repeat the visual inspection of the tail rotor control lever as described in paragraph (a) of this AD.

(3) After any repetitive inspection, if you find score marks, notching, or scratches, that exceed the maintenance manual limits or find a crack, replace the tail rotor control lever with an airworthy tail rotor control lever before further flight.

(4) Reassemble the tail rotor control lever by following the appropriate maintenance instructions and the Accomplishment Instructions, paragraph 3A(4) and Figure 1 of the ASB.

(b) To request an alternative method of compliance or a different compliance time for this AD, follow the procedures in 14 CFR 39.19. Contact the Manager, Safety Management Group, FAA, ATTN: Charles Harrison, Aviation Safety Engineer, FAA, Rotorcraft Directorate, Fort Worth, Texas 76193-0110, telephone (817) 222-5128, fax (817) 222-5961, for information about previously approved alternative methods of compliance.

(c) Special flight permits will not be issued.

(d) The inspections and reassembly shall be done in accordance with the specified portions of Eurocopter Alert Service Bulletin No. MBB BK117 C-2-64A-002, dated December 21, 2006. The Director of the Federal Register approved this incorporation by reference in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas or at the National Archives and Records Administration (NARA). For information on the availability of this material at NARA, call 202-741-6030, or go to: http://www.archives.gov/federal_register/code_of_federal_regulations/ibr_locations.html.

(e) This amendment becomes effective on April 9, 2007, to all persons except those persons to whom it was made immediately effective by Emergency AD 2006-26-51, issued December 22, 2006, which contained the requirements of this amendment.

Note 2: The subject of this AD is addressed in Luftfahrt-Bundesamt (Federal Republic of Germany) AD D-2006-428, dated December 22, 2006.

Issued in Fort Worth, Texas, on March 14, 2007.
David A. Downey,
Manager, Rotorcraft Directorate, Aircraft Certification Service.

[FR Doc. E7-5139 Filed 3-22-07; 8:45 am]

BILLING CODE 4910-13-P